INTERNATIONAL TRADE COMMISSION

[Investigation No. 731-TA-1047 (Final)]

Ironing Tables and Certain Parts Thereof From China; Notice of Commission Determination To Conduct a Portion of the Hearing In Camera

AGENCY: International Trade Commission.

ACTION: Closure of a portion of a Commission hearing.

SUMMARY: Upon request of respondents Harvest Housewares, Ltd., Whitney Designs, Inc. And Polder, Inc., (collectively “Harvest”) the Commission has determined to conduct a portion of its hearing in the above-captioned investigation scheduled for June 16, 2004, in camera. See Commission rules 207.24(d), 201.13(m) and 201.36(b)(4) (19 CFR 207.24(d), 201.13(m) and 201.36(b)(4)). The remainder of the hearing will be open to the public. The Commission has determined that the seven-day advance notice of the change to a meeting was not possible. See Commission rule 201.35(a), (c)(1) (19 CFR 201.35(a), (c)(1)).

FOR FURTHER INFORMATION CONTACT: Rhonda Hughes, Esq., Office of the General Counsel, U.S. International Trade Commission, telephone 202-205-3083. Hearing-impaired individuals are advised that information on this matter may be obtained by contacting the Commission's TDD terminal on 202-205-3105.

SUPPLEMENTARY INFORMATION: The Commission believes that Harvest has justified the need for a closed session. Harvest seeks a closed session to allow for a discussion of business proprietary pricing, financial, and production information. In making this decision, the Commission nevertheless reaffirms its belief that whenever possible its business should be conducted in public.

The hearing will include the usual public presentations by the petitioners and by respondents, with questions from the Commission. In addition, the hearing will include a 10-minute in camera session for a confidential presentation by Harvest and followed by a 10-minute in camera rebuttal presentation by petitioners. Questions from the Commission relating to the BPI will follow each of the in camera presentations. During the in camera session the room will be cleared of all persons except those who have been granted access to BPI under a Commission administrative protective order (APO) and are included on the Commission's APO service list in this investigation. See 19 CFR 201.35(b)(1), (2). The time for the parties' presentations and rebuttals in the in camera session will be taken from their respective overall allotments for the hearing. All persons planning to attend the in camera portions of the hearing should be prepared to present proper identification.

Authority: The Acting General Counsel has certified, pursuant to Commission Rule 201.39 (19 CFR 201.39) that, in his opinion, a portion of the Commission's hearing in Ironing Tables from China, Inv. No. 731-TA-1047 (Final), may be closed to the public to prevent the disclosure of BPI.

Issued: June 10, 2004.
By order of the Commission.
Marilyn R. Abbott,
Secretary to the Commission.

[FR Doc. 04-13616 Filed 6-16-04; 8:45 am]

BILLING CODE 7020-02-P